DEPARTMENT OF HOMELAND SECURITY

Coast Guard

33 CFR Parts 1, 100, 110, and 165

[Docket No. USCG-2018-0533]

RIN 1625-ZA38

Navigation and Navigable Waters, and Shipping; Technical, Organizational, and Conforming Amendments for U.S. Coast Guard Field Districts 5, 8, 9, 11, 13, 14, and 17

AGENCY: Coast Guard, DHS.

ACTION: Final rule.

SUMMARY: The Coast Guard is issuing non-substantive technical, organizational, and conforming amendments to existing regulations in parts 1, 100, 110, and 165 of Title 33 of the Code of Federal Regulations. These amendments update and clarify general regulations in part 1, and update regulations for Field Districts 5, 8, 9, 11, 13, 14, and 17 to reflect the current status of regulated navigation areas, special local regulations, anchorages, safety zones, and security zones. This rule will have no substantive effect on the regulated public.

DATES: This final rule is effective March 16, 2020.

FOR FURTHER INFORMATION CONTACT: For information about this document call or email Dominique Christianson, Coast Guard; telephone 202-372-3856, email Dominique.Christianson@uscg.mil.

SUPPLEMENTARY INFORMATION:

Table of Contents for Preamble

I. Abbreviations

II. Regulatory History

III. Basis and Purpose

IV. Discussion of Rule

V. Regulatory Analyses

A. Regulatory Planning and Review

B. Impact on Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

CFR Code of Federal Regulations

CG-LRA Office of Regulations and Administrative Law

COTP Captain of the Port

DHS Department of Homeland Security

FR Federal Register

OMB Office of Management and Budget

§ Section

U.S.C. United States Code

II. Regulatory History

We did not publish a notice of proposed rulemaking for this rule. Under Title 5 of the United States Code (U.S.C.), section 553(b)(A), the Coast Guard finds that this rule is exempt from notice and public comment rulemaking requirements because these changes involve rules of agency organization, procedure, or practice. In addition, the Coast Guard finds that notice and comment procedures are unnecessary under 5 U.S.C. 553(b)(B), as this rule consists only of technical and editorial corrections, and these changes will have no substantive effect on the public.

III. Basis and Purpose

This rulemaking project was identified as part of the Coast Guard's Regulatory Reform Task Force Initiative. These field regulation changes were identified as part of the deregulation identification process required by Executive Order 13771 (Reducing Regulation and Controlling Regulatory Costs), Executive Order 13777 (Enforcing the Regulatory Reform Agenda Deregulatory Process), and associated guidance issued in 2017. This rule makes technical and editorial corrections in Title 33 of the Code of Federal Regulations (CFR). Specifically, the rule removes safety zones, security zones, and special local regulations where the event is no longer held. This rule also removes special anchorage areas that are no longer used, and redesignates certain special anchorage areas in the Hawaiian Islands and Guam so they are grouped in the CFR as District 14 anchorages. Additionally, the rule removes outdated references to penalties in regulations governing certain regulated navigation areas in Florida and Georgia, and updates Captain of the Port (COTP) information in regulations for certain regulated navigation areas and security zones in Kentucky, Ohio, and Missouri. These changes are necessary to correct errors, change addresses, and make other non-substantive changes that improve the clarity of the CFR. This rule does not create or change any substantive requirements.

The changes to 33 CFR part 1 are authorized under 14 U.S.C. 503, which grants the Secretary of the Department of Homeland Security (DHS) broad authority to promulgate such regulations as are appropriate to carry out the provisions of any law applicable to the Coast Guard. The changes to 33 CFR part 100 are specifically authorized under 46 U.S.C. 70041(a), which vests the Commandant of the Coast Guard with authority to issue regulations to promote the safety of life on navigable waters during regattas or marine parades. The changes to 33 CFR parts 110 and 165 are authorized under the general authority of 46 U.S.C. 70034, granting the Secretary of DHS broad authority to issue, amend, or repeal regulations as necessary to implement 46 U.S.C. chapter 700, Ports and Waterways Safety Program. The Secretary has delegated rulemaking authority under 14 U.S.C. 503 and 46 U.S.C. 70034 to the Commandant via DHS Delegation No. 0170.1.¹

¹ The Coast Guard Authorization Act of 2018, Public Law 115-282, 132 Stat. 4192 (Dec. 4, 2018) redesignated 33 U.S.C. 1231 as 46 U.S.C. 70034.

IV. Discussion of the Rule

The Coast Guard amends 33 CFR parts 1, 100, 110, and 165 by removing outdated event references and updating contact information in Coast Guard Field Districts 5, 8, 9, 11, 13, 14, and 17.

A. Changes to 33 CFR Part 1 General Provisions

In § 1.05-1 the following changes are being made:

It amends paragraphs (d) and (d)(1) by updating the title of the Assistant Commandant for Reponse Policy;

It amends paragraph (e) to clarify that the types of regulations Coast Guard District Commanders are authorized to issue include the establishment of safety zones around facilities being constructed maintained, or operated on the Outer Continental Shelf. This is not a new delegation of authority. District Commanders have been delegated the authority to issue and enforce safety zone regulations on the Outer Continental Shelf since 1982 and that authority is codified in Coast Guard regulations at 33 CFR 147.5 (47 FR 9366, 9386, March 4, 1982). The lack of inclusion of this authority in the general list of delegated authorities at § 1.05-1 was a drafting oversight which we now wish to correct;

It amends paragraph (g) by updating the title of the Assistant Commandant for Reponse Policy; and

It amends paragraph (h) by updating the office symbol for the Office of Regulations and Administrative Law.

In § 1.05-20, the Coast Guard is amending the mailing address for petitions for rulemaking. Currently § 1.05-20 directs the public to mail petitions to CG-0943, to the attention of the Executive Secretary of the Marine Safety and Security Counsel. For expediency in directing incoming petitions to the proper office within the Coast Guard, we are amending this regulation to state that the public should mail petitions to the Office of Regulations and Administrative Law (CG-LRA). The Executive Secretary for the Marine Safety and Security Counsel resides within the Office of Regulations and Administrative Law. The Office of Regulations and Administrative Law, previously identified with the abbreviation CG-0943, was re-identified as CG-LRA several years ago; and

In § 1.05-50 the following changes are made regarding final rules:

The paragraph discussing rules issued through notice and comment first and then promulgation without notice and comment is being restructured. This proposed change reflects the requirements of 5 U.S.C. 553 which requires agencies to allow the public to comment on rules prior to issuance except under certain specified conditions. Also, we are clarifying that the preamble to a final rule must respond to all significant comments, not necessarily all comments. We generally mention all comments that we received, even if only to note that some comments were outside the scope or completely not applicable to the rulemaking. However, we do not otherwise address the merits or spend as much time on comments that did not relate to the rulemaking.

B. Changes to 33 CFR Part 100 General Provisions

In 33 CFR part 100, the following Special Local Regulations are being changed:

In Table 7 of § 100.801, item 3 (Battle on the Bayou) and item 5 (Chattahoochee Challenge) are being removed, as these events are no longer issued permits;

In Table 1 of § 100.1101, item 7 (ITU World Triathlon), item 8 (Fearless Triathlon), and item 9 (Bay to Bay Rowing and Paddling Regatta) are being removed, as these events are no longer issued permits;

In Table 1 of § 100.1103, item 1 (Redwood Heron Sprints Regatta), item 2 (Stockton Asparagus Festival), item 5 (Kinetic Sculpture Race), item 6 (Sacramento Bridge-to-Bridge Water Festival), and item 7 (Humboldt Bay Paddle Fest) are being removed, as these events are no longer issued permits;

Section 100.1306 (National Maritime Week Tugboat Races) is being removed because this event no longer occurs; and

Section 100.1307 (Straight Thunder Performance) is being removed because this event no longer occurs.

C. Changes to 33 CFR Part 110 General Provisions

In 33 CFR part 110, the following anchorage areas are being changed:

The special anchorage areas located in § 110.65 (Indian River Bay), § 110.70 (Chesapeake and Delaware Canal), and § 110.71(a) (Northeast River), are being removed because they are no longer utilized;

The special anchorage areas located in § 110.128b (Island of Hawaii), § 128c (Island of Kauai), and § 128d (Island of Oahu) are being redesignated as §§ 110.129, 110.129a, and 110.129b, respectively, so that they will be organized with the District 14 anchorages, not District 13;

The special anchorage area in § 110.129a (Apra Harbor) is being redesignated as § 110.129c because § 110.128c has been redesignated above as § 110.129a; and

The special anchorage area listed in § 110.232 (Southeast Alaska) is being removed, as this anchorage is no longer used.

D. Changes to 33 CFR Part 165 General Provisions

In 33 CFR part 165, the following provisions are being changed:

The security zones in § 165.T08-0994 (Mississippi River, New Orleans), the safety zone in § 165.T09-0971 (Overhead Cable Replacement, Maumee River), the safety zone in § 165.T11-504 (Independence Day Fireworks Celebration for the City of Richmond), and the safety zone in § 165.T11-630 (Giants Enterprises Fireworks Display) are being removed, as the enforcement periods for these regulations have expired;

Outdated reference to penalities in § 165.726 (Regulated Navigation Areas, Miami River) and § 165.756 (Regulated Navigation Area, Savannah River) are being removed;

In Table 7 of § 165.801, the safety zones are being removed in item 1 (Go Daddy Bowl), item 3 (Billy Bowlegs Pirate Festival), and item 5 (Fourth of July Celebration City of Fort Walton Beach) as these events no longer occur;

The security zones in § 165.809 (Port of Port Lavaca-Point Comfort, Point Comfort, and Port of Corpus Christi Inner Harbor) are being removed as this security zone was removed in 2005 by previous regulation (70 FR 9363).

The regulated navigation area in § 165.815, paragraph (c) (Ohio River at Louisville, Kentucky) is being revised to provide correct Captain of the Port (COTP) information;

The security zone in § 165.820, paragraph (b) (Ohio River Mile 34.6 to 35.1, Shippingport, Pennsylvania) is being revised to provide correct COTP information;

The regulated navigation area in § 165.821, paragraph (b) (Ohio River at Cincinnati, Ohio) is being revised to provide correct COTP information; and

The security zones in § 165.825, paragraph (b) (Captain of the Port St. Louis, Missouri) are being revised to provide correct COTP information.

IV. Regulatory Analyses

We developed this rule after considering numerous statutes and Executive orders related to rulemaking. Below we summarize our analyses based on these statutes or Executive orders.

A. Regulatory Planning and Review

Executive Orders 12866 (Regulatory Planning and Review) and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. Executive Order 13771 (Reducing Regulation and Controlling Regulatory Costs) directs agencies to reduce regulation and control regulatory costs and provides that “for every one new regulation issued, at least two prior regulations be identified for elimination, and that the cost of planned regulations be prudently managed and controlled through a budgeting process.”

The Office of Management and Budget (OMB) has not designated this rule a significant regulatory action under section 3(f) of Executive Order 12866. Accordingly, OMB has not reviewed it. Because this rule is not a significant regulatory action, this rule is exempt from the requirements of Executive Order 13771. See the OMB's Memorandum titled “Guidance Implementing Executive Order 13771, titled `Reducing Regulation and Controlling Regulatory Costs' ” (April 5, 2017). A regulatory analysis (RA) follows. This rule involves non-substantive changes and internal agency practices and procedures; it will not impose any additional costs on the public. The benefit of the non-substantive changes is increased clarity and accuracy of regulations.

B. Impact on Small Entities

Under the Regulatory Flexibility Act, 5 U.S.C. 601-612, we have considered whether this rule would have a significant economic impact on a substantial number of small entities. The term “small entities” comprises small businesses, not-for-profit organizations that are independently owned and operated and are not dominant in their fields, and governmental jurisdictions with populations of less than 50,000. This rule will have no substantive effect on the regulated public. Therefore, the Coast Guard certifies under 5 U.S.C. 605(b) that this rule will not have a significant economic impact on a substantial number of small entities.

This rule is not preceded by a notice of proposed rulemaking and, therefore is exempt from the requirements of the Regulatory Flexibility Act (5 U.S.C. 601-612). The Regulatory Flexibility Act does not apply when notice and comment rulemaking is not required.

C. Assistance for Small Entities

Under section 213(a) of the Small Business Regulatory Enforcement Fairness Act of 1996, Public Law 104-121, we offer to assist small entities in understanding this rule so that they can better evaluate its effects on them and participate in the rulemaking. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995, 44 U.S.C. 3501-3520.

E. Federalism

A rule has implications for federalism under Executive Order 13132 (Federalism) if it has a substantial direct effect on States, on the relationship between the national government and the States, or on the distribution of power and responsibilities among the various levels of government. We have analyzed this rule under Executive Order 13132 and have determined that it is consistent with the fundamental federalism principles and preemption requirements described in Executive Order 13132.

F. Unfunded Mandates Reform Act

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Although this rule would not result in such an expenditure, we do discuss the effects of this rule elsewhere in this preamble.

G. Taking of Private Property

This rule will not cause a taking of private property or otherwise have taking implications under Executive Order 12630 (Governmental Actions and Interference with Constitutionally Protected Property Rights).

H. Civil Justice Reform

This rule meets applicable standards in sections 3(a) and 3(b)(2) of Executive Order 12988 (Civil Justice Reform) to minimize litigation, eliminate ambiguity, and reduce burden.

I. Protection of Children

We have analyzed this rule under Executive Order 13045 (Protection of Children from Environmental Health Risks and Safety Risks). This rule is not an economically significant rule and would not create an environmental risk to health or risk to safety that might disproportionately affect children.

J. Indian Tribal Governments

This rule does not have tribal implications under Executive Order 13175 (Consultation and Coordination with Indian Tribal Governments), because it would not have a substantial direct effect on one or more Indian tribes, on the relationship between the Federal Government and Indian tribes, or on the distribution of power and responsibilities between the Federal Government and Indian tribes.

K. Energy Effects

We have analyzed this rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

M. Environment

We have analyzed this rule under Department of Homeland Security Management Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. A Record of Environmental Consideration (REC) supporting this determination is available in the docket. For instructions on locating the docket, see the ADDRESSES section of this preamble. A preliminary Record of Environmental Consideration and a Memorandum for the Record are not required for this rule.

This rule is categorically excluded from further review under paragraphs L54, L55, L59 and L61 in Appendix A, Table 1 of DHS Directive 023-01. Paragraph L54 pertains to promulgation of regulations that are editorial or procedural; paragraph L55 pertains to regulations concerning internal agency function or organization; paragraph L59 pertains to regulations establishing, disestablishing, or changing the size of Special Anchorage Areas or anchorage grounds; paragraph L61 pertains to special local regulations issues in conjunction with a regatta or marine parade. This rule amends Title 33 CFR parts 1, 100, 110, and 165 by updating and clarifying general regulations and by removing outdated event references and updating contact information in Coast Guard Field Districts 5, 8, 9, 11, 13, 14, and 17. These regulation changes are consistent with the Coast Guard's maritime safety and stewardship missions.

List of Subjects

33 CFR Part 1

Administrative practice and procedure, Authority delegations (Government agencies), Freedom of information, Penalties.

33 CFR Part 100

Marine safety, Navigation (water), Reporting and recordkeeping requirements, Waterways.

33 CFR Part 110

Anchorage grounds.

33 CFR Part 165

Harbors, Marine safety, Navigation (water), Reporting and recordkeeping requirements, Security measures, Waterways.

For the reasons stated in the preamble, the Coast Guard amends 33 CFR parts 1, 100, 110, and 165 as follows:

PART 1—GENERAL PROVISIONS

Subpart 1.05—Rulemaking

1. The authority citation for subpart 1.05 is revised to read as follows:

Authority: 5 U.S.C. 552, 553, App. 2; 14 U.S.C. 102, 502, 503, and 505; 33 U.S.C. 471, 499; 49 U.S.C. 101, 322; Department of Homeland Security Delegation No. 0170.1.

2. Amend § 1.05-1 by:

a. In paragraph (d) introductory text removing the words “Marine Safety, Security and Stewardship (CG-5)” and adding, in their place, the words “Response Policy (CG-5R)”;

b. In paragraph (d)(1) introductory text, removing the words “Marine Safety, Security and Stewardship” and adding, in their place, the words “Response Policy (CG-5R)”;

c. Adding paragraph (e)(1)(viii);

d. In paragraph (g) removing the words “Marine Safety, Security and Stewardship” and adding, in their place, the words “Response Policy”; and

e. In paragraph (h), removing the words “(CG-0943)” and adding, in their place, the words “(CG-LRA)”.

The addition reads as follows:

§ 1.05-1 Delegation of rulemaking authority.

* * * * *

(e) * * *

(1) * * *

(viii) The establishment of safety zones around OCS facilities being constructed, maintained, or operated on the Outer Continental Shelf.

* * * * *

§ 1.05-20 [Amended]

3. In § 1.05-20(a), remove the words “Commandant (CG-0943), Attn: Executive Secretary, Marine Safety and Security Council,” and add, in their place, the words “Office of Regulations and Administrative Law (CG-LRA)”.

4. Revise § 1.05-50 to read as follows:

§ 1.05-50 Final Rule.

When notice and comment procedures have been used, and after all comments received have been considered, a final rule is issued. A final rule document contains a preamble that responds to significant comments received and includes a discussion of changes made from the proposed or interim rule, a citation of legal authority, and the text of the rule. In some instances, a final rule may be issued without prior notice and comment.

PART 100—SAFETY OF LIFE ON NAVIGABLE WATERS

5. The authority citation for part 100 continues to read as follows:

Authority: 46 U.S.C. 70041; 33 CFR 1.05-1.

§ 100.801 [Amended]

6. In § 100.801 amend Table 7 of § 100.801 by:

a. Removing item 3 (Battle on the Bayou) and item 5 (Chattahoochee Challenge); and

b. Redesignating item 4 as item 3, item 6 as item 4, and items 7 through 20 as items 5 through 18.

§ 100.1101 [Amended]

7. In § 100.1101 amend Table 1 of § 100.1101 by:

a. Removing item 7 (ITU World Triathlon), item 8 (Fearless Triathlon) and item 9 (Bay to Bay Rowing and Paddling Regatta); and

b. Redesignating items 10 through 18 as items 7 through 15.

§ 100.1103 [Amended]

8. § 100.1103 amend Table 1 of § 100.1103 by:

a. Removng item 1 (Redwood Heron Sprints Regatta), item 2 (Stockton Asparagus Festival), item 5 (Kinetic Sculpture Race), item 6 (Sacramento Bridge-to-Bridge Water Festival), and item 7 (Humboldt Bay Paddle Fest); and

b. Redesignating items 3, 4, 8 and 9 as items 1 through 4.

§§ 100.1306 and 100.1307 [Removed]

9. Remove §§ 100.1306 and 100.1307.

PART 110—ANCHORAGE REGULATIONS

10. The authority citation for part 110 continues to read as follows:

Authority: 33 U.S.C. 471, 2071, 46 U.S.C. 70034; 33 CFR 1.05-1; Department of Homeland Security Delegation No. 0170.1.

§§ 110.65, 110.70, and 110.71a [Removed]

11. Remove §§ 110.65, 110.70, and 110.71a.

§§ 110.128b through 110.129a [Redesignated]

12. Redesignate §§ 110.128b through 110.129a as follows:

Current section | Redesignated section
110.128b | 110.129.
110.128c | 110.129a.
110.128d | 110.129b.
110.129a | 110.129c.

§ 110.232 [Removed]

13. Remove § 110.232.

PART 165—REGULATED NAVIGATION AREAS AND LIMITED ACCESS AREAS

14. The authority citation for part 165 continues to read as follows:

Authority: 46 U.S.C. 70034, 70051; 33 CFR 1.05-1, 6.04-1, 6.04-6, and 160.5; Department of Homeland Security Delegation No. 0170.1.

§ 165.726 [Amended]

15. Amend § 165.726 by removing paragraph (c).

§ 165.756 [Amended]

16. Amend § 165.756 by removing paragraph (f).

§ 165.T08-0994 [Removed]

17. Remove § 165.T08-0994.

§ 165.801 [Amended]

18. Amend § 165.801 as follows:

a. Remove item 1 (Go Daddy Bowl), item 3 (Billy Bowlegs Pirate Festival), and item 5 (Fourth of July Celebration/City of Fort Walton Beach) in Table 7; and

b. Redesignate items 2, 4, and 6 through 10 as items 1-7 in Table 7.

§ 165.809 [Removed]

19. Remove § 165.809.

§ 165.815 [Amended]

20. In § 165.815(c) remove the words “Captain of the Port, Louisville, Kentucky” and add, in their place, the words “Captain of the Port, Ohio Valley”.

§ 165.820 [Amended]

21. Amend § 165.820(b) by:

a. In paragraph (b)(1), removing the word “Pittsburgh”, and adding, in its place, the words “MSU Pittsburgh”.

b. In paragraph (b)(2), removing the two occurances of the word “Pittsburgh”, and adding, in their place, the words “, MSU Pittsburgh”.

§ 165.821 [Amended]

22. In § 165.821(b) remove the words “Captain of the Port, Louisville, Kentucky” and add, in their place, the words “Captain of the Port, Ohio Valley”.

23. Amend § 165.825 by revising paragraph (b) to read as follows:

§ 165.825 Security Zones; Captain of the Port, Upper Mississippi.

* * * * *

(b) Regulations. (1) Entry into these security zones is prohibited unless authorized by the Coast Guard Captain of the Port, Upper Mississippi or designated representative.

(2) The Ft. Calhoun and Cooper security zones include a portion of the navigable channel of the Missouri River. All vessels that may safely navigate outside of the channel are prohibited from entering the security zone without the express permission of the Captain of the Port, Upper Mississippi or designated representative. Vessels that are required to use the channel for safe navigation are authorized entry into the zone but must remain within the channel unless expressly authorized by the Captain of the Port Upper Mississippi or designated representative.

(3) Persons or vessels requiring the permission of the Captain of the Port, Upper Mississippi to enter the security zones must contact the Coast Guard Sector Upper Mississippi River at telephone number 319 524-7511 or on VHF marine channel 16 or Marine Safety Detachment Quad Cities at telephone number 309 782-0627 or the Captain of the Port, Upper Mississippi at telephone number 314 539-3091, ext. 3500 in order to seek permission to enter the security zones. If permission is granted, all persons and vessels must comply with the instructions of the Captain of the Port, Upper Mississippi or designated representative.

(4) Designated representatives are commissioned, warrant, and petty officers of the U.S. Coast Guard.

* * * * *

§§ 165.T09-0971, 165.T11-504, and 165.T11-630 [Removed]

24. Remove §§ 165.T09-0971, 165.T11-504, and 165.T11-630.

Dated: January 9, 2020.
M.W. Mumbach,
Chief, Office of Regulations and Administrative Law.

[FR Doc. 2020-01760 Filed 2-12-20; 8:45 am]

BILLING CODE 9110-04-P